DEPARTMENT OF COMMERCE

National Oceanic and Atmospheric Administration

[I.D. 080101C]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Allocation Committee will hold a meeting which is open to the public.

DATES: The meeting will begin on Monday, August 27, 2001, at 10 a.m. and will continue through Tuesday, August 28, 2001, as necessary.

ADDRESSES: The meeting will be held at the Pacific Fishery Management Council office, 7700 NE Ambassador Place, Suite 200, Portland, OR 97220-1384; (503) 326-6352.

Council address:

FOR FURTHER INFORMATION CONTACT: John DeVore, Groundfish Management Coordinator; telephone: (503) 326-6352.

SUPPLEMENTARY INFORMATION: The purpose of the meeting is to develop preliminary options for allocations and other management measures for the 2002 Pacific Coast groundfish fishery. In addition, the committee will evaluate current catch levels of overfished groundfish species and may propose inseason adjustments. The committee will discuss the types of provisions that may be necessary to prevent further overfishing, to reduce bycatch of overfished species in the various groundfish fisheries, and to reduce bycatch in non-groundfish fisheries. The committee will prepare recommendations and contribute to draft rebuilding plans for canary rockfish, bocaccio, cowcod rockfish, coastwide lingcod stocks, Pacific ocean perch, widow rockfish, and darkblotched rockfish that will be presented to the Council at its September meeting. If available, the committee may also review new rebuilding analyses for Pacific ocean perch, coastwide lingcod stocks, and darkblotched rockfish and may propose revisions to the current rebuilding plans and management measures. No management actions will be decided by the Ad Hoc Allocation Committee. The committee’s role will be development of recommendations for consideration by the Council at its September meeting in Portland, OR.

Although nonemergency issues not contained in the Ad Hoc Allocation Committee meeting agenda may come before the committee for discussion, those issues may not be the subject of formal Ad Hoc Allocation Committee action during this meeting. Ad Hoc Allocation Committee action will be restricted to those issues specifically listed in this document and any issues arising after publication of this document that require emergency action under section 305 (c) of the Magnuson-Stevens Act, provided the public has been notified of the committee's intent to take final action to address the emergency.

Special Accommodations

The meeting is physically accessible to people with disabilities. Requests for sign language interpretation or other auxiliary aids should be directed to Ms. Carolyn Porter at (503) 326-6352 at least 5 days prior to the meeting date.

Dated: August 2, 2001.
Richard W. Surdi,
Acting Director, Office of Sustainable Fisheries, National Marine Fisheries Service.

[FR Doc. 01-19902 Filed 8-7-01; 8:45 am]

BILLING CODE 3510-22-S